DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Watch Duty-Exemption and 7113 Jewelry Duty-Refund Program.

OMB Control Number: 0625-0134.

Form Number(s): ITA-340P, ITA-360P, ITA-361P.

Type of Request: Regular submission (extension of a currently approved information collection).

Number of Respondents: 1.

Average Hours per Response: 6 minutes for Form ITA-340P; 10 minutes for Form ITA-361P; and 1 minute to transfer a certificate using Form ITA-360P.

Burden Hours: 4.

Needs and Uses: Public Law 97-446 as amended requires the Department of Commerce and Department of the Interior to administer the distribution of watch duty exemptions and watch and jewelry duty refunds to program producers in the U.S. insular possessions (American Samoa, Guam, U.S. Virgin Islands, and the Northern Mariana Islands). Form ITA-340P provides the data to assist in the verification of duty-free shipments and make certain the allocations are not exceeded. Form ITA-360P and ITA-361P are necessary to implement the duty refund program. The primary consideration in collecting information is the enforcement of the law and the information gathered is limited to that necessary to prevent abuse of the program and to permit a fair and equitable distribution of its benefits.

Affected Public: Business or other for-profit organizations.

Frequency: On Occasion.

Respondent's Obligation: Required to obtain or retain a benefit.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 20, 2015.
Glenna Mickelson,
Management Analyst, Office of the Chief Information Officer.

[FR Doc. 2015-12682 Filed 5-26-15; 8:45 am]

BILLING CODE 3510-DS-P